DEPARTMENT OF COMMERCE

International Trade Administration

[C-570-997, C-580-873, C-583-852]

Non-Oriented Electrical Steel From the People's Republic of China, the Republic of Korea, and Taiwan: Postponement of Preliminary Determinations in the Countervailing Duty Investigations

AGENCY: Enforcement and Compliance, formerly Import Administration, International Trade Administration, Department of Commerce.

FOR FURTHER INFORMATION CONTACT: Austin Redington at (202) 482-1664 or Nancy Decker at (202) 482-0196, AD/CVD Operations, Office I, Enforcement and Compliance, International Trade Administration, Department of Commerce, 14th Street and Constitution Avenue NW., Washington, DC 20230.

SUPPLEMENTARY INFORMATION:

Background

On November 6, 2013, the Department of Commerce (the Department) initiated countervailing duty investigations on non-oriented electrical steel (NOES) from the People's Republic of China, the Republic of Korea, and Taiwan.¹ Currently, the preliminary determinations are due no later than January 10, 2013.

¹ See Non-Oriented Electrical Steel from the People's Republic of China, the Republic of Korea, and Taiwan: Initiation of Countervailing Duty Investigations, 78 FR 68412 (November 14, 2013).

Postponement of Due Date for Preliminary Determinations

Section 703(b)(1) of the Tariff Act of 1930, as amended (the Act), requires the Department to issue the preliminary determination in a countervailing duty investigation within 65 days after the date on which the Department initiated the investigation. However, if the petitioner makes a timely request for a postponement, section 703(c)(1)(A) of the Act allows the Department to postpone making the preliminary determination until no later than 130 days after the date on which the administering authority initiated the investigation.

On November 26, 2013, AK Steel Corporation, the petitioner in these investigations, requested that the deadline for the preliminary determination in each of these cases be postponed in accordance with 19 CFR 351.205(b)(2). Therefore, in accordance with section 703(c)(1)(A) of the Act, we are fully postponing the due date for the preliminary determinations to no later than 130 days after the day on which the investigations were initiated. However, as that date falls on a Sunday (i.e., March 16, 2014), the deadline for completion of the preliminary determinations is now March 17, 2014, the next business day.

This notice is issued and published pursuant to section 703(c)(2) of the Act and 19 CFR 351.205(f)(1).

Dated: December 13, 2013.
Paul Piquado,
Assistant Secretary for Enforcement and Compliance.

[FR Doc. 2013-30262 Filed 12-18-13; 8:45 am]

BILLING CODE 3510-DS-P